DEPARTMENT OF JUSTICE

Antitrust Division

Notice Pursuant to the National Cooperative Research and Production Act of 1993—The National Institute for Innovation in Manufacturing Biopharmaceuticals

Notice is hereby given that, on July 18, 2017, pursuant to Section 6(a) of the National Cooperative Research and Production Act of 1993, 15 U.S.C. 4301 et seq. (“the Act”), the University of Delaware, doing business as The National Institute for Innovation in Manufacturing Biopharmaceuticals (“NIIMBL”), has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: University of Delaware, Newark, DE; Purdue University, West Lafayette, IN; North Carolina State University, Raleigh, NC; Rensselaer Polytechnic Institute, Troy, NY; Johns Hopkins University, Baltimore, MD; Regents of University of Minnesota, Minneapolis, MN; National Institute for Pharmaceutical Technology and Education, Inc., Minneapolis, MN; University of Massachusetts, Lowell, MA; Southwest Research Institute, San Antonio, TX; Tulane University, New Orleans, LA; UNCW Research Foundation, or its assignee University of North Carolina at Wilmington, Wilmington, NC; Carnegie Mellon University, Pittsburgh, PA; East Carolina University, Greenville, NC; University of Georgia Research Foundation, Athens, GA; Texas A&M University System, College Station, TX; Clemson University, Clemson, SC; The Pennsylvania State University, University Park, PA; Georgia Tech Research Corporation, Atlanta, GA; Massachusetts Institute of Technology, Cambridge, MA; University of Maryland College Park, College Park, MD; Worcester Polytechnic Institute, Worcester, MA; Genentech, San Francisco, CA; Stratophase LP, Romsey, UNITED KINGDOM; Chromatan Corporation, State College, PA; ILC Dover LP, Frederica, DE; Sudhin Biopharma Co., Superior, CO; Artemis Biosystems, Inc., Cambridge, MA; Commissioning Agents, Indianapolis, IN; Unum Therapeutics, Inc., Cambridge, MA; RoosterBio, Inc., Avondale, PA; University of Maryland Baltimore, Baltimore, MD; Forsyth Technical Community College, Winston-Salem, NC; University of Pennsylvania, Philadelphia, PA; Celgene Corporation, Summit, NJ; North Carolina Central University, Durham, NC; Massachusetts Life Sciences Center, Waltham, MA; North Carolina Biotechnology Center, Research Triangle Park, NC; Akron Biotechnology, LLC, Boca Raton, FL; and Accugenomics, Inc., Wilmington, NC. The general area of NIIMBL's planned activity is to engage in collaborative activities with the goals of: (a) Accelerating biopharmaceutical manufacturing innovation, (b) supporting the development of standards that enable more efficient and rapid manufacturing capabilities, and (c) educating and training a world-leading biopharmaceutical manufacturing workforce. Additional information about NIIMBL can be obtained from Dr. Kelvin Lee, Institute Director, NIIMBL, 15 Innovation Way, Newark, DE 19711, info@niimbl.org and (302) 831-3716.

Patricia A. Brink,
Director of Civil Enforcement, Antitrust Division.

[FR Doc. 2017-18992 Filed 9-6-17; 8:45 am]

BILLING CODE P